ENVIRONMENTAL PROTECTION AGENCY

[EPA-HQ-OAR-2003-0039; FRL-8175-2]

Agency Information Collection Activities; Submission to OMB for Review and Approval; Comment Request; Reporting and Recordkeeping Requirements of the HCFC Allowance System, EPA ICR Number 2014.03, OMB Control Number 2060-0498

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before June 29, 2006.

ADDRESSES: Submit your comments, referencing Docket ID No. EPA-HQ-OAR-2003-0039, to (1) EPA online using www.regulations.gov (our preferred method), by e-mail to: a-and-r-docket@epa.gov, or by mail to: EPA Docket Center (EPA/DC), Environmental Protection Agency, Docket ID No. EPA-HQ-OAR-2003-0039, Air and Radiation Docket and Information Center, U.S. Environmental Protection Agency, Mail Code: 6102T, 1200 Pennsylvania Avenue, NW., Washington, DC 20460, 1200, and (2) OMB by mail to: Office of Information and Regulatory Affairs, Office of Management and Budget (OMB), Attention: Desk Officer for EPA, 725 17th Street, NW., Washington, DC 20503.

FOR FURTHER INFORMATION CONTACT: Cindy Axinn Newberg, 6205J, Environmental Protection Agency, 1200 Pennsylvania Avenue, NW., Washington, DC 20460; telephone number: 202-343-9729; fax number: 202-343-2337; e-mail address: newberg.cindy@epa.gov.

SUPPLEMENTARY INFORMATION: EPA has submitted the following ICR to OMB for review and approval according to the procedures prescribed in 5 CFR 1320.12. On December 20, 2005, (70 FR 75458), EPA sought comments on this ICR pursuant to 5 CFR 1320.8(d). EPA received one comment during the comment period. However, the comment does not pertain to this ICR or its information collections and therefore no action has been taken on the comment in relation to the renewal of this ICR. Any additional comments on this ICR should be submitted to EPA and OMB within 30 days of this notice.

EPA has established a public docket for this ICR under Docket ID No. EPA-HQ-OAR-2003-0039, which is available for online viewing at http://www.regulations.gov, or in-person viewing at the Air and Radiation Docket in the EPA Docket Center (EPA/DC), EPA West, Room B102, 1301 Constitution Avenue, NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Reporting and Recordkeeping Requirements of the HCFC Allowance System.

ICR Numbers: 2014.03, OMB Control Number 2060-0498.

ICR Status: This ICR is scheduled to expire on June 30, 2006. Under OMB regulations, the Agency may continue to conduct or sponsor the collection of information while this submission is pending at OMB. An Agency may not conduct or sponsor, and a person is not required to respond to, a collection of information, unless it displays a currently valid OMB control number. The OMB control numbers for EPA's regulations in Title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: In order to continue to meet its obligations under the Montreal Protocol on Substances that Deplete the Ozone Layer (Protocol) and the Clean Air Act Amendments of 1990 (CAAA), EPA maintains an allowance system for class II controlled substances or hydrochlorofluorocarbons (HCFCs). Under the Protocol, the U.S. is obligated to limit HCFC consumption (defined by the Protocol as production plus imports, minus exports) under a specific cap. The U.S. is also a signatory to amendments that froze HCFC production on January 1, 2004. EPA controls U.S. production and consumption of HCFCs by granting baseline allowances based on the historical activity levels of producers and importers coupled with a chemical-by-chemical phaseout. Since each allowance equals 1 kilogram of HCFC, EPA can monitor the quantity of HCFCs being produced, imported, exported, transformed, or destroyed. There are two types of allowances: consumption allowances and production allowances. Transfers of production and consumption allowances among producers and importers are allowed. Producers, importers, and exporters are required to submit to EPA quarterly reports of the quantity of HCFCs in each of their transactions; they are also required to report the quantity of HCFCs transformed or destroyed. EPA requires all producers, importers, and exporters maintain records such as Customs entry forms, bills of lading, sales records, and canceled checks to support their quarterly reports. The quarterly reports may be faxed or mailed to EPA and soon may be submitted electronically. Reports are handled as confidential business information. EPA stores the submitted information in a computerized database designed to track allowance balances and transfer activities. When electronic reporting is available, EPA will change its guidance document. EPA uses collected information to ensure that the U.S. maintains compliance with the Protocol caps, to report annually to United Nations Environment Programme the U.S. activity in HCFCs, and to ensure that allowance holders are in compliance. The respondents are producers, importers, and exporters of HCFCs; and entities granted HCFC-141b exemption allowances.

Burden Statement: The annual public reporting and recordkeeping burden for this collection of information currently estimated to average less than one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 70;

Frequency of response: quarterly, annually, semi-annually, or one-time only;

Estimated total average number of responses for each respondent: 342;

Estimated total annual burden hours: 1632 hours for respondents;

Estimated total annual cost: $138,963, which includes $138,123 labor costs, $0 capital/startup costs, and $840 annual O&M costs.

Changes in the Estimates: There is a decrease of 1660 hours in the total estimated burden and a decrease of $333,234 currently identified in the OMB Inventory of Approved ICR Burdens. This decrease is due to adjustments that EPA made in its assumptions, the lack of additional capital costs necessary to meet the requirements, and certain inconsistencies found in the previous analysis. The previously approved ICR estimated 8 hours for a respondent to prepare and submit a report. This ICR estimates a respondent will need 4.5 hours. The 4.5-hour estimate is based on recent feedback from respondents under the program and is therefore more reliable and up-to-date than the eight-hour estimate. Additionally, in comparison with three years ago, respondents are more familiar with the reporting requirements and have improved their processes for collecting and documenting the information requested. Any capital costs required to comply with the requirements were met under the previous ICR. Lastly, while developing supporting materials for this ICR, EPA uncovered and corrected inconsistencies associated with the previous ICR. Consequently, the burden for the respondents has been greatly reduced for reporting the information.

The option of electronic reporting imposes a minimal change to burden estimates because of the start-up hours associated with electronic reporting that EPA estimates will be required during the three years of this ICR. While electronic reporting is eventually expected to reduce the reporting burden for respondents, as well as the O&M costs, the reduction will not be seen until after this ICR period.

Dated: May 17, 2006.
Oscar Morales,
Director, Collection Strategies Division.

[FR Doc. E6-8302 Filed 5-26-06; 8:45 am]

BILLING CODE 6560-50-P